ENVIRONMENTAL PROTECTION AGENCY

[FRL-6965-9]

Adequacy Status of Motor Vehicle Budgets in Submitted State Implementation Plans for Transportation Conformity Purposes; Delaware; ROP Plans for Delaware Portion of the Philadelphia-Wilmington-Trenton Ozone Nonattainment Area (Kent and New Castle Counties)

AGENCY: Environmental Protection Agency (EPA).

ACTION: Notice of adequacy status.

SUMMARY: EPA is announcing that the motor vehicle emissions budgets (budgets) for Kent County and for New Castle County contained in the revised 2002 Rate of Progress Plan (ROP) and in the 2005 ROP Plan are adequate for transportation conformity purposes. These ROP plans were submitted to EPA by the Delaware Department of Natural Resources and Environmental Control (DNREC) as State Implementation Plan (SIP) revisions on December 22, 2000. EPA has found the ROP plans' budgets for these two counties, which comprise the Delaware portion of the Philadelphia-Wilmington-Trenton Ozone Nonattainment Area, are adequate for transportation conformity purposes.

DATES: The findings that the budgets are adequate were made in a letter dated April 5, 2001 from EPA Region III to the DNREC . These adequacy findings are effective on May 2, 2001.

FOR FURTHER INFORMATION CONTACT: Martin Kotsch, U.S. EPA, Region III, 1650 Arch Street, Philadelphia, PA 19103 at (215) 814-3335 or by e-mail at: Kotsch.Martin@EPA.gov.

SUPPLEMENTARY INFORMATION: Throughout this document “we,” “ us,” or “our” refer to EPA. The word “budgets” refers to the motor vehicle emission budgets for volatile organic compounds (VOCs) and nitrogen oxides ( NOX). The word “SIP” in this document refers to the ROP Plans for the Delaware portion of the Philadelphia-Wilmington-Trenton Ozone Nonattainment Area submitted to EPA as SIP revisions on December 22, 2000.

On March 2, 1999, the DC Circuit Court ruled that budgets contained in submitted SIPs cannot be used for conformity determinations until EPA has affirmatively found them adequate. On December 22, 2000, the Delaware DNREC formally submitted SIP revisions to EPA consisting of a revised 2002 ROP Plan and the 2005 ROP Plan for the Delaware portion of the Philadelphia-Wilmington-Trenton Ozone Nonattainment Area (Kent and New Castle Counties). On January 17, 2001, we posted the availability of the ROP plans and the budgets for these two counties on our conformity website for the purpose of soliciting public comment on the adequacy of the budgets. The comment period closed on February 16, 2001. We did not receive any comments.

On April 5, 2001, EPA Region III sent a letter to DNREC which constituted final Agency actions on the adequacy of the budgets contained in the revised 2002 and the 2005 ROP plans submitted by DNREC for Kent and New Castle Counties. Those actions were EPA's findings that the ROP plans' budgets for Kent County and for New Castle County are adequate for transportation conformity purposes. As a result of our April 5, 2001 findings, the revised 2002 ROP plan budgets and the 2005 ROP plan budgets contained in Delaware's December 22, 2000 SIP submittals for Kent County and for New Castle County (the Delaware Portion of the Philadelphia-Wilmington-Trenton Ozone Nonattainment Area) may be used for future conformity determinations.

This is an announcement of adequacy findings that we already made on April 6, 2001. The effective date of these findings is May 2, 2001. These findings will also be announced on EPA's website: http://www.epa.gov/oms/traq (once there, click on the “Conformity” button, then look for “Adequacy Review of Submissions for Conformity”). The website will contain a detailed analysis of our adequacy findings.

Transportation conformity is required by section 176 of the Clean Air Act. EPA's conformity rule requires that transportation plans, programs, and projects conform to SIPs and establishes the criteria and procedures for determining whether or not they do so. Conformity to a SIP means that transportation activities will not produce new air quality violations, worsen existing violations, or delay timely attainment of the national ambient air quality standards. The criteria by which we determine whether SIP's budgets are adequate for conformity purposes are outlined in 40 CFR 93.118 (e)(4).

Please note that an adequacy finding for budgets contained in a SIP is separate from EPA's completeness determination of the SIP submission, and separate from EPA's action to approve or disapprove the SIP. Even if we find budgets adequate, the SIP could later be disapproved. We describe our process for determining the adequacy of submitted SIP budgets in guidance memorandum dated May 14, 1999 and titled, “Conformity Guidance on Implementation of March 2, 1999 Conformity Court Decision.” We followed this guidance in making these adequacy findings of the budgets in the Delaware Rate of Progress Plans submitted on December 22, 2000. You may obtain a copy of this guidance from EPA's conformity web site: http://www.epa.gov/oms/traq (once there, click on the “Conformity” button) or by calling the contact name listed in FOR FURTHER INFORMATION CONTACT section of this notice.

Authority: 42 U.S.C. 7401-7671q.

Dated: April 6, 2001.
William C. Early,
Acting Regional Administrator, Region III.

[FR Doc. 01-9484 Filed 4-16-01; 8:45 am]

BILLING CODE 6560-50-P